DEPARTMENT OF HOMELAND SECURITY

National Communications System

[Docket No. NCS-2009-0005]

President's National Security Telecommunications Advisory Committee

AGENCY: National Communications System, DHS.

ACTION: Notice of Open Advisory Committee meeting.

SUMMARY: The President's National Security Telecommunications Advisory Committee (NSTAC) will be meeting by teleconference; the meeting will be open to the public.

DATES: February 9, 2010, from 2 p.m. until 3 p.m.

ADDRESSES: The meeting will take place by teleconference. For access to the conference bridge and meeting materials, contact Ms. Sue Daage at (703) 235-5526 or by e-mail at sue.daage@dhs.gov by 5 p.m. February 2, 2010. If you desire to submit comments regarding the February 9, 2010 meeting, comments must be identified by NCS-2009-0005 and may be submitted by one of the following methods:

Federal eRulemaking Portal: http://www.regulations.gov. Follow the instructions for submitting comments.

E-mail: NSTAC1@dhs.gov. Include docket number in the subject line of the message.

Mail: Office of the Manager, National Communications System (Government Industry Planning and Management Branch), Department of Homeland Security, 245 Murray Lane, SW., Washington, DC 20598-0615; Fax: 1-866-466-5370.

Instructions: All submissions received must include the words “Department of Homeland Security” and NCS-2009-0005, the docket number for this action. Comments received will be posted without alteration at http://www.regulations.gov, including any personal information provided. Docket: For access to the docket, background documents or comments received by the NSTAC, go to http://www.regulations.gov.

FOR FURTHER INFORMATION CONTACT: Ms. Sue Daage, Government Industry Planning and Management Branch at (703) 235-5526, e-mail: sue.daage@dhs.gov or write the Deputy Manager, National Communications System, Department of Homeland Security, 245 Murray Lane, SW., Washington, DC 20598-0615.

SUPPLEMENTARY INFORMATION: NSTAC advises the President on issues and problems related to implementing national security and emergency preparedness telecommunications policy. Notice of this meeting is given under the Federal Advisory Committee Act (FACA), Public Law 92-463 (1972), as amended appearing in 5 U.S.C. App. 2. At the upcoming meeting, the NSTAC Principals will receive government stakeholder comments and discuss and vote on the Cybersecurity Collaboration Task Force recommendation to collect data in support of information sharing policy. The data collection effort will involve a private sector-to-private sector information sharing pilot exercise.

Persons with disabilities who require special assistance should indicate this when arranging access to the teleconference and are encouraged to identify anticipated special needs as early as possible.

Signed: January 19, 2010.
James Madon,
Director National Communications System.

[FR Doc. 2010-1453 Filed 1-22-10; 8:45 am]

BILLING CODE 9110-9P-P